DEPARTMENT OF HOMELAND SECURITY

Coast Guard

33 CFR Part 165

[Docket No. USCG-2017-0222]

RIN 1625-AA00

Safety Zone; Annual Events Requiring Safety Zones in the Captain of the Port Lake Michigan Zone—Lubbers Cup Regatta

AGENCY: Coast Guard, DHS.

ACTION: Notice of enforcement of regulation.

SUMMARY: The Coast Guard will enforce the safety zone on the Spring Lake in Spring Lake, MI in the vicinity of Keenan Marina within a rectangle that is approximately 6,300 by 300 feet for the Lubbers Cup Regatta on April 8, 2017 and April 9, 2017. This action is necessary and intended to ensure safety of life on navigable waters immediately prior to, during, and after the Regatta. During the aforementioned period, the Coast Guard will enforce restrictions upon, and control movement of, vessels in the safety zone. No person or vessel may enter the safety zone while it is being enforced without permission of the Captain of the Port Lake Michigan or a designated representative.

DATES: The regulations in 33 CFR 165.929 will be enforced for safety zone (b)(2), Table 165.929, from 7:45 a.m. until 7:15 p.m. on April 8, 2017 and 7:45 a.m. until 12:15 p.m. on April 9, 2017.

FOR FURTHER INFORMATION CONTACT: If you have questions on this document, call or email marine event coordinator, Prevention Department, Coast Guard Sector Lake Michigan, Milwaukee, WI at (414) 747-7148, email D09-SMB-SECLakeMichigan-WWM@uscg.mil.

SUPPLEMENTARY INFORMATION: The Coast Guard will enforce the Lubbers Cup Regatta safety zone listed as item (b)(2) in Table 165.929 of 33 CFR 165.929. Section 165.929 lists many annual events requiring safety zones in the Captain of the Port Lake Michigan zone. This safety zone will encompass all waters of Spring Lake in Spring Lake, Michigan in the vicinity of Keenan Marina within a rectangle that is approximately 6,300 by 300 feet. The rectangle will be bounded by points beginning at 43°04.914′ N., 086°12.525′ W.; then east to 43°04.958′ N., 086°11.104′ W.; then south to 43°04.913′ N., 086°11.096′ W.; then west to 43°04.867′ N., 086°12.527′ W.; then north back to the point of origin. (NAD 83). As specified in 33 CFR 165.929, all vessels must obtain permission from the Captain of the Port Lake Michigan or a designated representative to enter, move within, or exit the safety zone when it is enforced. Vessels and persons granted permission to enter the safety zone must obey all lawful orders or directions of the Captain of the Port Lake Michigan or a designated representative.

This document is issued under authority of 33 CFR 165.929, Safety Zones; Annual events requiring safety zones in the Captain of the Port Lake Michigan zone, and 5 U.S.C. 552(a). In addition to this publication in the Federal Register, the Coast Guard plans to provide the maritime community with advance notification for the enforcement of this zone via Broadcast Notice to Mariners or Local Notice to Mariners. The Captain of the Port Lake Michigan or a representative may be contacted via Channel 16, VHF-FM.

Dated: March 28, 2017.
A.B. Cocanour,
Captain, U.S. Coast Guard, Captain of the Port Lake Michigan.

[FR Doc. 2017-06471 Filed 3-31-17; 8:45 am]

BILLING CODE 9110-04-P